DEPARTMENT OF HEALTH AND HUMAN SERVICES

Centers for Medicare & Medicaid Services

[Document Identifier: CMS-10314]

Agency Information Collection Activities: Submission for OMB Review; Comment Request

AGENCY: Centers for Medicare & Medicaid Services.

In compliance with the requirement of section 3506I(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: New collection; Title of Information Collection: Medicare Savings Program Protection from Medicaid Estate Recovery—State Plan Pre-print under Title XIX. Form No.: CMS-10314 (OMB# 0938-New); Use: Section 115 of the Medicare Improvements for Patients and Providers Act (MIPPA)—2008, provides new protections from Medicaid estate recovery for limited categories of dual eligibles age 55 and over. To offer these protections, States have to amend their Medicaid State plans to reflect these new limits on estate recovery. To reduce paperwork burden and expedite this process, CMS is providing States with a pre-printed document (i.e., a State plan preprint) which neither needs nor requires any insertion of language or even completion of a check-off box. As Section 115 simply mandates compliance (there is no option not to comply), States only need return the preprint page (as prepared by CMS) to CMS, as a requested amendment to their State Plan. This is a one-time only submission, with little burden imposition and complete electronic routing to and from States.

Frequency: Reporting—Once; Affected Public: State, Local or Tribal Governments; Number of Respondents: 51; Total Annual Responses: 51; Total Annual Hours: 102. (For policy questions regarding this collection contact Nancy Dieter at 410-786-7219. For all other issues call 410-786-1326.)

To obtain copies of the supporting statement and any related forms for the proposed paperwork collections referenced above, access CMS Web Site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received by the OMB desk officer at the address below, no later than 5 p.m. on September 20, 2010.

OMB, Office of Information and Regulatory Affairs, Attention: CMS Desk Officer. Fax Number: (202) 395-6974. E-mail: OIRA_submission@omb.eop.gov.

Dated: August 13, 2010.
Michelle Shortt,
Director, Regulations Development Group, Office of Strategic Operations and Regulatory Affairs.

[FR Doc. 2010-20386 Filed 8-19-10; 8:45 am]

BILLING CODE 4120-01-P